Proclamation 10081 of September 18, 2020

Death of Ruth Bader Ginsburg

By the President of the United States of America

A Proclamation

Today, our Nation mourns the loss of a trailblazer, not only in the field of law, but in the history of our country. Ruth Bader Ginsburg served more than 27 years as an Associate Justice of the Supreme Court of the United States. She was a loving wife to her late husband Martin, and a caring mother to her two children Jane and James.

Ruth Bader Ginsburg was an inspiration to all Americans. Having lost her older sister and mother before graduating high school, she entered law school as both a wife and a mother, and one of the few women in her class. After graduating from law school in 1959, she worked tirelessly for more than 34 years as a litigator and jurist and, in 1993, she became just the second woman to sit on the Supreme Court of the United States. Renowned for her powerful dissents at the Supreme Court, Justice Ginsburg epitomized powerful yet respectful argument; that you can disagree with someone without being disagreeable to them. Justice Ginsburg's work helped bring about greater equality for women, secure rights for the disabled, and will continue to influence our Nation for generations to come. In addition to her quick mind, she brought flair to the bench with her stylish jabots and her warm friendships among colleagues, even those with whom she often disagreed, most notably with the late Justice Antonin Scalia.

A fighter to the end, Justice Ginsburg defeated cancer and the odds numerous times—all while continuing to serve on the Court. Her commitment to the law and her fearlessness in the face of death inspired countless “RBG” fans, and she continues to serve as a role model to countless women lawyers. Her legacy and contribution to American history will never be forgotten.

As a mark of respect for Ruth Bader Ginsburg, Associate Justice of the United States, I hereby order, by the authority vested in me by the Constitution and laws of the United States of America, including section 7 of title 4, United States Code, that the flag of the United States shall be flown at half-staff at the White House and on all public buildings and grounds, at all military posts and naval stations, and on all naval vessels of the Federal Government in the District of Columbia and throughout the United States and its Territories and possessions until sunset, on the day of interment. I also direct that the flag shall be flown at half-staff for the same period at all United States embassies, legations, consular offices, and other facilities abroad, including all military facilities and naval vessels and stations.

IN WITNESS WHEREOF, I have hereunto set my hand this eighteenth day of September, in the year of our Lord two thousand twenty, and of the Independence of the United States of America the two hundred and forty-fifth.

[FR Doc. 2020-21385

Filed 9-24-20; 8:45 am]

Billing code 3295-F0-P